DEPARTMENT OF ENERGY

Federal Energy Regulatory Commission

Combined Notice of Filings

Take notice that the Commission has received the following Part 284 Natural Gas Pipeline Rate filings:

Filings Instituting Proceedings

Docket Numbers: PR14-15-000.

Applicants: NorthWestern Corporation.

Description: Tariff filing per 284.123(b)(1): Revised Rate Schedules for Transportation and Storage Service—Tax Tracker to be effective 1/1/2014; TOFC 980.

Filed Date: 1/22/14.

Accession Number: 20140122-5013.

Comments Due: 5 p.m. ET 2/12/14.

284.123(g) Protests Due:

Docket Numbers: PR14-16-000.

Applicants: Washington Gas Light Company.

Description: Tariff filing per 284.123(b)(2): General Rate Increase and Compliance Filing to be effective 2/1/2014; TOFC 760.

Filed Date: 1/23/14.

Accession Number: 20140123-5053.

Comments Due: 5 p.m. ET 2/13/14.

284.123(g) Protests Due:

Docket Numbers: PR13-61-001.

Applicants: Houston Pipe Line Company LP.

Description: Tariff filing per 284.123(b)(1): Revised HPL Petition for Firm Rate Approval & SOC Changes to be effective 9/1/2013 under PR13-61 TOFC: 1000.

Filed Date: 1/24/14.

Accession Number: 20140124-5133.

Comments Due: 5 p.m. ET 1/31/14.

284.123(g) Protests Due:

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2014.
Nathaniel J. Davis, Sr.,
Deputy Secretary.

[FR Doc. 2014-02238 Filed 2-3-14; 8:45 am]

BILLING CODE 6717-01-P